DEPARTMENT OF AGRICULTURE

Rural Utilities Service

Old Dominion Electric Cooperative; Notice of Intent

AGENCY: Rural Utilities Service, USDA.

ACTION: Notice of intent to hold a public meeting and prepare an environmental assessment.

SUMMARY: Notice is hereby given that the Rural Utilities Service (RUS), pursuant to the National Environmental Policy Act of 1969, the Council on Environmental Quality Regulations for Implementing the National Environmental Policy Act (40 CFR parts 1500-1508), and RUS Environmental Policies and Procedures (7 CFR part 1794) proposes to prepare an Environmental Assessment related to possible financing assistance to Louisa Generation LLC related to construction and operation of a 490-megawatt simple cycle, combustion turbine electric generation plant in Louisa County, Virginia.

Meeting Information: RUS will conduct a public meeting on Wednesday, April 25, 2001, from 6:00 p.m. until 9:00 p.m. at the Trevilians Elementary School, 2035 Spotswood Trail, Louisa, Virginia. All interested parties are invited to attend the meeting.

FOR INFORMATION CONTACT: Bob Quigel, Engineering and Environmental Staff, Rural Utilities Service, at (202) 720-0468. Mr. Quigel's E-mail address is bquigel@rus.usda.gov. Information is also available from David Smith of Old Dominion Electric Cooperative at (804) 968-4045. Mr. Smith's E-mail address is dsmith@odec.com.

SUPPLEMENTARY INFORMATION: Old Dominion would be the agent to construct and operate the proposed plant. The preferred plant site is located just south of the Louisa/Albemarle County line at the intersection of Klockner Road and a CSX Railroad track. The site is approximately 90 acres. About 30 acres of the site would be developed for the plant. The plant would be made up of one GE Frame 7FA and four 7EA combustion turbines. The nominal maximum output of the plant will be 490 megawatts. The primary fuel will be natural gas. Low sulfur fuel oil will be used as a back-up fuel.

The plant will be a peaking facility. It is anticipated that each of the five turbines would operate for no more than 1,800 hours per year. This would be during periods of high-energy demand in Virginia. The plant would be interconnected to a 230 kV transmission line that crosses the site. Natural gas would be delivered to the site via an existing pipeline located south of the plant site. The natural gas pipeline company is evaluating what upgrades would be necessary to interconnect the plant to the existing pipeline. The maximum water use by the plant is estimated to be 22.6 million gallons per year. A water pipeline would need to be constructed to transport the water to the plant.

Alternatives considered by RUS and Old Dominion Electric Cooperative include: (a) No action, (b) purchased power, (c) load management and conservation, (d) renewable energy, (e) simple cycle combustion turbine, (f) combined cycle, and (g) various site locations.

An alternative evaluation and site selection study for the project was prepared by Old Dominion Electric Cooperative. The alternative evaluation and site selection study are available for public review at RUS in Room 2242, 1400 Independence Avenue, SW, Washington, DC, and at the headquarters of Old Dominion Electric Cooperative, Innsbrook Corporate Center, 4201 Dominion Boulevard, Glen Allen, Virginia. This document will also be available at the Jefferson-Madison Regional Library, 881 Davis Highway, Mineral, Virginia.

Government agencies, private organizations, and the public are invited to participate in the planning and analysis of the proposed project. Representatives of RUS and Old Dominion Electric Cooperative will be available at the public meeting to discuss RUS' environmental review process, describe the project and alternatives under consideration, discuss the scope of environmental issues to be considered, answer questions, and accept oral and written comments. Written comments will be accepted for 30 days after the public scoping meeting.

From information provided in the alternative evaluation and site selection study, input that may be provided by government agencies, private organizations, and the public, Old Dominion Electric Cooperative will prepare an environmental analysis to be submitted to RUS for review. RUS will use the environmental analysis to determine the significance of the impacts of the project and may adopt it as its environmental assessment of the project. RUS’ environmental assessment of the project would be available for review and comment for 30 days.

Should RUS determine, based on the environmental assessment of the project, that the impacts of the construction and operation of the plant would not have a significant environmental impact, it will prepare a finding of no significant impact. Public notification of a finding of no significant impact would be published in the Federal Register and in newspapers with a circulation in the project area.

Any final action by RUS related to the proposed project will be subject to, and contingent upon, compliance with environmental review requirements as prescribed by Council on Environmental Quality and RUS environmental policies and procedures.

Dated: April 4, 2001.
Mark Plank,
Acting Director, Engineering and Environmental Staff.

[FR Doc. 01-8644 Filed 4-6-01; 8:45 am]

BILLING CODE 3410-15-P